SMALL BUSINESS ADMINISTRATION

[Declaration of Disaster #3619]

Commonwealth of Virginia

As a result of the President's major disaster declaration on September 3, 2004, I find that the independent cities of Colonial Heights, Hopewell, Petersburg, and Richmond, and the counties of Chesterfield, Dinwiddie, Hanover, Henrico, and Prince George Counties in the Commonwealth of Virginia constitute a disaster area due to damages caused by severe storms, flooding and tornadoes associated with Tropical Depression Gaston occurring on August 30, 2004, and continuing. Applications for loans for physical damage as a result of this disaster may be filed until the close of business on November 2, 2004 and for economic injury until the close of business on June 3, 2005 at the address listed below or other locally announced locations:

U.S. Small Business Administration, Disaster Area 1 Office, 360 Rainbow Blvd., South 3rd Fl., Niagara Falls, NY 14303-1192.

In addition, applications for economic injury loans from small businesses located in the following contiguous counties may be filed until the specified date at the above location: Amelia, Brunswick, Caroline, Charles City, Goochland, Greensville, King William, Louisa, New Kent, Nottoway, Powhatan, Spotsylvania, Surry and Sussex in Virginia.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 361906 and for economic injury the number is 9ZT900 for Virginia.

(Catalog of Federal Domestic Assistance Program Nos. 59002 and 59008)
Dated: September 7, 2004.
Herbert L. Mitchell,
Associate Administrator for Disaster Assistance.

[FR Doc. 04-20633 Filed 9-13-04; 8:45 am]

BILLING CODE 8025-01-P